DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Application for Certification/Exemption of Label/Bottle Approval Under the Federal Alcohol Administration Act.

DATES: Written comments should be received on or before March 23, 2001 to be assured of consideration.

ADDRESS: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to Lynne Gittes, Alcohol, Labeling and Formulation Division, 650 Massachusetts Avenue, NW., Washington, DC 20226, (202) 927-8140.

SUPPLEMENTARY INFORMATION: Title: Application for Certification/Exemption of Label/Bottle Approval Under the Federal Alcohol Administration Act.

OMB Number: 1512-0092.

Form Number: ATF F 5100.31.

Abstract: ATF administers the Federal Alcohol Administration Act and its implementing regulations. The law and regulations provide, in part, standards and guidelines for the labeling of alcohol beverages. Under the law and regulations, U.S. bottlers and importers cannot bottle or import alcohol beverages without a certificate of label approval. To obtain approval, U.S. bottlers and importers must complete ATF F 5100.31.

Current Actions: ATF F 5100.31 has been revised. Minor changes were made to the front of the form. The wording of items 7, 16 and 17 were slightly modified for clarification purposes. The back of the form was completely changed. Following plain language guidelines, the instructions for completing the form and conditions of approval were reformatted. The conditions under which approved labels may be modified without submission of a new application for certificate of label approval were changed. The single-most significant revision of the form is the allowance to add, delete or change any nonmandatory label information without submission of a new application for certificate of label approval. There is an increase in burden hours due to an increase in respondents. The recordkeeping requirement for this information collection is 3 years.

Type of Review: Extension with changes.

Affected Public: Business or other for-profit.

Estimated Number of Respondents: 9,047.

Estimated Time Per Respondent: 30 minutes.

Estimated Total Annual Burden Hours: 37,016.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: January 11, 2001.
William T. Earle,
Assistant Director (Management) CFO.

[FR Doc. 01-1810 Filed 1-19-01; 8:45 am]

BILLING CODE 4810-31-P